ENVIRONMENTAL PROTECTION AGENCY

[FRL-7661-5]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses To Agency Clearance Requests

OMB Approvals

EPA ICR No. 1926.03; NSPS for Commercial and Industrial Solid Waste Incineration Units; in 40 CFR part 60, subpart CCCC, was approved 03/15/2004; OMB Number 2060-0450; expires 03/31/2007.

EPA ICR No. 1797.03; NSPS for Storage Vessels for Petroleum Liquids for Which Construction, Reconstruction of Modification Commenced after June 11, 1973, and Prior to May 19, 1978; in 40 CFR part 60, subpart K, was approved 3/15/2004; OMB Number 2060-0442; expires 03/31/2007.

EPA ICR No. 2147.01; Pesticide Registration Fee Waiver Processing; Emergency Processing Request; was approved 03/16/2004; OMB Number 2070-0167; expires 09/30/2004.

EPA ICR No. 0010.10; Information Requirements for Importation of Nonconforming Vehicles; in 40 CFR part 83, subparts P and R; was approved 03/26/2004; OMB Number 2060-0095; expires 03/31/2007.

EPA ICR No. 0282.13; Emission Defect Information Reports and Voluntary Emission Recall Reports; in 40 CFR part 85, subpart T, 40 CFR part 89, subpart I, 40 CFR part 90, subpart I, 40 CFR part 91, subpart J, 40 CFR part 92, subpart E; was approved 03/26/2004; OMB Number 2060-0048; expires 03/31/2007.

EPA ICR No. 1774.03; Mobile Air Conditioner Retrofitting Program; was approved 03/18/2004; OMB Number 2060-0350; expires 03/31/2007.

EPA ICR No. 2080.02; Motor Vehicle and Engine Compliance Program Fees (Final Rule); in 40 CFR 86.980, 40 CFR 83.2406—85.2408; was approved 03/18/2004; OMB Number 2060-0545; expires 03/31/2007.

EPA ICR No. 1845.03; Production Line Testing, In-use Testing, and Selective Enforcement Auditing Reporting and Recordkeeping Requirements for Manufacturers of Nonroad Spark Ignition Engines at or below 19 Kilowatts; in 40 CFR part 90; was approved 03/26/2004; OMB Number 2060-0427; expires 03/31/2007.

EPA ICR No. 0309.11; Registration of Fuels and Fuel Additives: Requirements for Manufacturers; in 40 CFR part 79, subparts A, B, C, D and F; was approved 03/26/2004; OMB Number 2060-0150; expires 03/31/2007.

EPA ICR No. 0783.46; Motor Vehicle Emission Standards and Emission Credits Provisions (Information Requirement for Highway Motorcycles) (Final Rule Revision); in 40 CFR part 1051, and 40 CFR part 94; was approved 03/26/2004; OMB Number 2060-0104; expires 07/31/2005.

EPA ICR No. 1072.07; NSPS for Lead-Acid Battery Manufacturing; in 40 CFR part 60, subpart KK; was approved 03/15/2004; OMB Number 2060-0081; expires 03/31/2007.

EPA ICR No. 2115.01; NESHAP for Miscellaneous Coating Manufacturing; in 40 CFR part 63, subpart HHHHH, was approved 04/05/2004; OMB Number 2060-0535; expires 04/30/2007.

EPA ICR No. 1963.02; NESHAP for Organic Liquids Distribution (Non-Gasoline) Facilities, in 40 CFR part 63, subpart EEEE, was approved 04/07/2004; OMB Number 2060-0539; expires 04/30/2007.

EPA ICR No. 1056.08; NSPS for Nitric Acid Plants; in 40 CFR part 60, subpart G, was approved 04/21/2004; OMB Number 2060-0019; expires 04/30/2007.

EPA ICR No. 1652.05; NESHAP for Halogenated Solvent Cleaning; in 40 CFR part 63, subpart T, was approved 04/19/2004; OMB Number 2060-0273; expires 04/30/2007.

EPA ICR No. 1927.03; Emission Guidelines for Commercial and Industrial Solid Waste Incineration Units; in 40 CFR part 60, subpart DDDD; was approved 04/21/2004; OMB Number 2060-0451; expires 04/30/2007.

EPA ICR No. 1907.03; Recordkeeping and Reporting Requirements Regarding the Sulfur Content of Motor Vehicle Gasoline Under the Tier 2 Rule; in 40 CFR part 80, subpart H; was approved 04/02/2004; OMB Number 2060-0437; expires 04/30/2007.

Short Term Extensions

EPA ICR No. 1953.02; Best Management Practices Alternatives, Effluent Limitations Guidelines and Standards, Oil and Gas Extraction Point Source Category; in 40 CFR part 435; OMB Number 2040-0230; on 04/26/2004 OMB extended the expiration date to 07/31/2004.

EPA ICR No. 1049.09; Notification of Episodic Releases of Oil and Hazardous Substances; OMB Number 2050-0046; OMB extended the expiration date to 07/31/2004.

Comment Filed

EPA ICR No. 1718.05; Recordkeeping and Reporting Requirements for the Fuel Quality Regulations for Nonroad, Locomotive, and Marine Diesel Fuel (Proposed Rule); in 40 CFR part 80; on 03/12/2004 OMB filed a comment.

EPA ICR No. 2130.01; Transportation Conformity Determination for Funded and Approved Plans, Program and Projects under the New 8-hour Ozone and PM2.5 NAAQPS (Proposed Rule); on 04/04/2004 OMB filed a comment.

Improperly Submitted

EPA ICR No. 1887.03; Personal Exposure of High-Risk Subpopulations to Particles (Additional of Detroit Exposure and Aerosol Research Study DEARS); was improperly submitted to OMB on 04/22/2004.

Dated: May 3, 2004.
Oscar Morales,
Director, Collection Strategies Division.

[FR Doc. 04-10983 Filed 5-13-04; 8:45 am]

BILLING CODE 6560-50-P